DEPARTMENT OF HOMELAND SECURITY

Coast Guard

33 CFR Part 117

[Docket No. USCG-2018-0144]

Drawbridge Operation Regulation; Trent River, New Bern, NC

AGENCY: Coast Guard, DHS.

ACTION: Notice of deviation from drawbridge regulation.

SUMMARY: The Coast Guard has issued a temporary deviation from the operating schedule that governs the U.S. 70/Alfred C. Cunningham Bridge which carries U.S. 70 and East Front Street across the Trent River, mile 0.0, at New Bern, NC. The deviation is necessary to facilitate the 2018 Neuse River Bridge Run. This deviation allows the bridge to remain in the closed-to-navigation position.

DATES: The deviation is effective from 6:45 a.m. through 10 a.m. on Saturday, March 24, 2018.

ADDRESSES: The docket for this deviation, [USCG-2018-0144] is available at http://www.regulations.gov. Type the docket number in the “SEARCH” box and click “SEARCH”. Click on Open Docket Folder on the line associated with this deviation.

FOR FURTHER INFORMATION CONTACT: If you have questions on this temporary deviation, call or email Mr. Michael Thorogood, Bridge Administration Branch Fifth District, Coast Guard, telephone 757-398-6557, email Michael.R.Thorogood@uscg.mil.

SUPPLEMENTARY INFORMATION: The North Carolina Department of Transportation, owner and operator of the U.S. 70/Alfred C. Cunningham Bridge that carries U.S. 70 and East Front Street over the Trent River, mile 0.0, at New Bern, NJ, has requested a temporary deviation from the current operating regulations to ensure the safety of the participants and spectators associated with the 2018 Neuse River Bridge Run on Saturday, March 24, 2018. This bridge is a double bascule drawbridge, with a vertical clearance of 14 feet above mean high water in the closed position and unlimited vertical clearance in the open position.

The current operating regulation is set out in 33 CFR 117.843(a). Under this temporary deviation, the bridge will be maintained in the closed-to-navigation position from 6:45 a.m. through 10 a.m. on Saturday, March 24, 2018.

The Trent River is used by a variety of vessels including small commercial vessels and recreational vessels. The Coast Guard has carefully coordinated the restrictions with waterway users in publishing this temporary deviation.

Vessels able to pass through the bridge in the closed-to-navigation position may do so at any time. The bridge will be able to open for emergencies, if 5 minutes prior notification is given, and there is no immediate alternative route for vessels unable to pass through the bridge in the closed position. The Coast Guard will also inform the users of the waterway through our Local and Broadcast Notices to Mariners of the change in operating schedule for the bridge so that vessel operators can arrange their transits to minimize any impact caused by the temporary deviation.

In accordance with 33 CFR 117.35(e), the drawbridge must return to its regular operating schedule immediately at the end of the effective period of this temporary deviation. This deviation from the operating regulations is authorized under 33 CFR 117.35.

Dated: March 13, 2018.
Hal R. Pitts,
Bridge Program Manager, Fifth Coast Guard District.

[FR Doc. 2018-05349 Filed 3-15-18; 8:45 am]

BILLING CODE 9110-04-P